DEPARTMENT OF COMMERCE

International Trade Administration

[C-552-824]

Countervailing Duty Investigation of Laminated Woven Sacks From the Socialist Republic of Vietnam: Postponement of Preliminary Determination

AGENCY: Enforcement and Compliance, International Trade Administration, Department of Commerce.

DATES: Applicable May 17, 2018.

FOR FURTHER INFORMATION CONTACT: Thomas Martin at (202) 482-3936 or Ariela Garvett at (202) 482-3609, AD/CVD Operations, Enforcement and Compliance, Office IV, International Trade Administration, U.S. Department of Commerce, 1401 Constitution Avenue NW, Washington, DC 20230.

SUPPLEMENTARY INFORMATION:

Background

On March 27, 2018, the Department of Commerce (Commerce) initiated a countervailing duty (CVD) investigation of imports of laminated woven sacks (LWS) from the Socialist Republic of Vietnam.¹ Currently, the preliminary determination is due no later than May 31, 2018.

¹ See Laminated Woven Sacks From the Socialist Republic of Vietnam: Initiation of Countervailing Duty Investigation, 83 FR 14253 (April 3, 2018) (Initiation Notice).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if, under part (A), the petitioners ² make a timely request for a postponement; or under part (B), Commerce concludes that the parties concerned are cooperating, and determines that the investigation is extraordinarily complicated, and that additional time is necessary to make a preliminary determination. Under 19 CFR 351.205(e), the petitioners must submit a request for postponement 25 days or more before the scheduled date of the preliminary determination and must state the reasons for the request. Commerce will grant the request unless it finds compelling reasons to deny the request.

² The petitioners are the Laminated Woven Sacks Fair Trade Coalition and its individual members Polytex Fibers Corporation and ProAmpac Holdings Inc.

On May 4, 2018, the petitioners submitted a timely request that Commerce postpone the preliminary CVD determination.³ The petitioners state that they request postponement of the preliminary determination because the current deadline does not provide adequate time for Commerce to issue questionnaires, receive responses, or to issue and receive responses to supplement questionnaires prior to Commerce's currently scheduled preliminary determination date. According to the petitioners, postponement of the preliminary determination deadline by the maximum extension of 65 additional days in this case would allow sufficient time for Commerce to develop the record in this investigation.

³ Letter from the petitioners, “Re: Laminated Woven Sacks from Vietnam: Request to Extend the Deadline for Preliminary Determination,” dated May 4, 2018.

In accordance with 19 CFR 351.205(e), the petitioners have stated the reasons for requesting a postponement of the preliminary determination, and Commerce finds no compelling reason to deny the request. Therefore, in accordance with section 703(c)(1)(A) of the Act, Commerce is postponing the deadline for the preliminary determination to no later than 130 days after the date on which the investigation was initiated, i.e., August 6, 2018.⁴ Pursuant to section 705(a)(1) of the Act and 19 CFR 351.210(b)(1), the deadline for the final determination of this investigation will continue to be 75 days after the date of the preliminary determination.

⁴ Postponing the preliminary determination to 130 days after initiation would place the deadline on Saturday, August 4, 2018. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: May 10, 2018.
Gary Taverman,
Deputy Assistant Secretary for Antidumping and Countervailing Duty Operations, performing the non-exclusive functions and duties of the Assistant Secretary for Enforcement and Compliance.

[FR Doc. 2018-10544 Filed 5-16-18; 8:45 am]

BILLING CODE 3510-DS-P